FEDERAL COMMUNICATIONS COMMISSION

47 CFR Part 73

[FRS 65285; MB Docket No. 21-502; DA 21-1635]

Radio Broadcasting Services; (Snowflake, Arizona; Millerton, Oklahoma; Powers, Oregon; Mount Enterprise and Paint Rock, Texas; Hardwick, Vermont; and Meeteetse, Wyoming)

AGENCY: Federal Communications Commission.

ACTION: Proposed rule.

SUMMARY: The Audio Division, on its own motion, proposes the deletion of seven vacant allotments in various communities in Arizona, Oklahoma, Oregon, Texas, Vermont and Wyoming. We tentatively conclude that it is in the public interest to delete seven vacant allotments that have been offered in two FM auctions. No bids were entered for these allotments in the recently completed FM Auction 109. These permits are now considered unsold, and the allotments remain vacant. Deletion of these allotments may create other opportunities in nearby communities for new FM allotments or upgrades of existing stations. Therefore, we believe that the proposed deletion of these vacant allotments may promote a more effective and efficient use of the FM broadcast spectrum.

DATES: Comments must be filed on or before February 14, 2022 and reply comments on or before March 1, 2022.

ADDRESSES: Federal Communications Commission, 45 L Street NE, Washington, DC 20554.

FOR FURTHER INFORMATION CONTACT: Rolanda F. Smith, Media Bureau, (202) 418-2054.

SUPPLEMENTARY INFORMATION: This is a synopsis of the Commission's Notice of Proposed Rule Making, MB Docket No. 21-502, adopted December 23, 2021, and released December 23, 2021. The full text of this Commission decision is available online at https://apps.fcc.gov/ecfs/. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

Federal Communications Commission.
Thomas Horan,
Chief of Staff, Media Bureau.

Proposed Rules

For the reasons discussed in the preamble, the Federal Communications Commission proposes to amend 47 CFR part 73 to read as follows:

PART 73—RADIO BROADCAST SERVICES

1. The authority citation for part 73 continues to read as follows:

Authority: 47 U.S.C. 154, 155, 301, 303, 307, 309, 310, 334, 336 and 339.

2. In § 73.202(b), amend the Table of FM Allotments, by:

a. Revising the entry for “Snowflake” under Arizona;

b. Revising the entry for “Millerton” under Oklahoma;

c. Revising the entry for “Powers” under Oregon;

d. Revising the entries for “Mount Enterprise” and “Paint Rock” under Texas;

e. Revising the entry for “Hardwick” under Vermont;

f. Revising the entry for “Meeteetse” under Wyoming.

The revisions read as follows:

§ 73.202 Table of Allotments.

* * * * *

(b) Table of FM Allotments.

Table 1 to Paragraph (b)
U.S. States | Channel No.
Arizona
* * * * *
Snowflake
* * * * *
Oklahoma
* * * * *
Millerton
* * * * *
Oregon
* * * * *
Powers
* * * * *
Texas
* * * * *
Mount Enterprise
* * * * *
Paint Rock
* * * * *
Vermont
* * * * *
Hardwick
* * * * *
Wyoming
* * * * *
Meeteetse
* * * * *

* * * * *

[FR Doc. 2022-00825 Filed 1-21-22; 8:45 am]

BILLING CODE 6712-01-P